DEPARTMENT OF LABOR

Mine Safety and Health Administration

Petitions for Modification of Existing Mandatory Safety Standards

AGENCY: Mine Safety and Health Administration (MSHA), Labor.

ACTION: Notice.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before January 3, 2011.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-035-C.

Petitioner: San Juan Coal Company, P.O. Box 561, Waterflow, New Mexico 87421.

Mine: San Juan Mine 1, MSHA I.D. No. 29-02170, located in San Juan County, New Mexico.

Regulation Affected: 30 CFR 75.500(d) (permissible electric equipment).

Modification Request: The petitioner requests a modification of the existing standard to: (1) Permit the use of certain non-permissible low-voltage electronic testing, diagnostic, measurement, and survey equipment in or inby the last open crosscut; and (2) the use of other testing, diagnostic, and survey equipment under this petition for modification if that equipment is approved in advance by MSHA's District Office. The petitioner states that: (1) All non-permissible testing and diagnostic equipment used in or inby the last open crosscut will be examined by a qualified person as defined in 30 CFR 75.153 prior to being used to insure the equipment is being maintained in a safe operating condition and the examination results will be recorded in the weekly examination book and made available to an authorized representative of the Secretary and the miners at the mine; (2) a qualified person as defined in existing 30 CFR 75.151 will continuously monitor for methane immediately before and during the use of non-permissible electronic test, diagnostic, measurement, or survey equipment in or inby the last open crosscut; (3) non-permissible electronic testing, diagnostic, measurement, or survey equipment will not be used if methane is detected in concentrations at or above 1.0 percent methane; (4) when 1.0 percent or more of methane is detected while the non-permissible electronic equipment is being used, the equipment will be de-energized immediately and the non-permissible electronic equipment will be withdrawn to outby the last open crosscut; (5) all hand-held methane detectors will be MSHA approved and maintained in permissible and proper operating condition as defined in 30 CFR 75.320 and calibrated in accordance with the requirements in the approved ventilation plan; (6) except for time necessary to trouble shoot under actual mining conditions, coal production in the section will cease. However, coal may remain in or on the equipment in order to test and diagnose the equipment under “load”; (7) non-permissible electronic test, diagnostic, measurement, or survey equipment will not be used when float coal dust is in suspension in the area; (8) all electronic test, diagnostic, measurement, or survey equipment will be used in accordance with the manufacturers recommended safe use procedures; (9) qualified personnel engaged in the use of electronic test, diagnostic, measurement, or survey equipment will be properly trained to recognize the hazards and limitations associated with the use of electronic test and diagnostic equipment; (10) any piece of equipment subject to this petition will be inspected by an authorized representative of the Secretary prior to initially placing it in service underground; and (11) within 60 days after the Proposed Decision and Order becomes final, proposed revisions to the approved 30 CFR 48 training plan will be submitted to the District Manager, which will include specific initial and refresher training regarding any terms and conditions stated in the Proposed Decision and Order. The petitioner asserts that the proposed alternative method will at all times guarantee no less than the same measure of protection afforded by the existing standard.

Docket Number: M-2010-036-C.

Petitioner: Sequoia Energy, LLC, P.O. Box 838, Middlesboro, Kentucky 40965.

Mine: Sequoia Preparation Facility, MSHA I.D. No. 15-12428, located in Harlan County, Kentucky.

Regulation Affected: 30 CFR 77.214 (Refuse piles; general).

Modification Request: The petitioner requests a modification of the existing standard to permit an additional site in the head of Upper Double Branch to be reclaimed as part of the Upper Double Branch Refuse Pile, Site I.D. No. 1211-KY7-07139-02. The petitioner proposes to cover abandoned mine openings with refuse piles. The petitioner states that: (1) The pile will be constructed of coarse refuse material from the Sequoia Preparation Facility; (2) the refuse in the pile will be placed in 2 feet lifts along an exposed surface mine highwall; (3) the material will be placed in level terraces to prevent the ponding of water; (4) the material will be compacted to reduce the possibility of water saturation and slope failure; (5) the mine openings will be plugged and proper drainage from the abandoned mine will be implemented to allow the abandoned mine to drain should any water accumulate in the mine; and (6) the abandoned mine openings will be covered with at least four feet of non-toxic, non-combustible material to separate it from the coarse refuse. The petitioner also states that there are no miners working within the mine nor is any other mine cut into the mine and there is no diminution of safety for the miners working within the mine.

Dated: November 30, 2010.
Patricia W. Silvey,
Director, Office of Standards, Regulations and Variances.

[FR Doc. 2010-30370 Filed 12-2-10; 8:45 am]

BILLING CODE 4510-43-P